COMMODITY FUTURES TRADING COMMISSION

Sunshine Act Meetings

FEDERAL REGISTER CITATION OF PREVIOUS ANNOUNCEMENT: 84 FR 44603, August 26, 2019.

PREVIOUSLY ANNOUNCED TIME AND DATE OF THE MEETING: 10:00 a.m., Wednesday, September 4, 2019.

CHANGES IN THE MEETING: The date of the meeting has changed. This meeting will now be held at 10:00 a.m. on Friday, September 6, 2019.

CONTACT PERSON FOR MORE INFORMATION: Christopher Kirkpatrick, 202-418-5964.

Authority: 5 U.S.C. 552b.

Dated: August 30, 2019.
Christopher Kirkpatrick,
Secretary of the Commission.

[FR Doc. 2019-19155 Filed 8-30-19; 4:15 pm]

BILLING CODE 6351-01-P